DEPARTMENT OF AGRICULTURE

Agricultural Marketing Service

[Docket # AMS-FV-2006-0203; FV-06-306]

United States Standards for Grades of Peppers (Other Than Sweet Peppers)

AGENCY: Agricultural Marketing Service, USDA.

ACTION: Notice.

SUMMARY: The Agricultural Marketing Service (AMS) of the Department of Agriculture (USDA) is establishing voluntary United States Standards for Grades of Peppers (Other Than Sweet Peppers). The standards will provide industry with a common language and uniform basis for trading, thus promoting the orderly and efficient marketing of peppers that are not sweet peppers.

EFFECTIVE DATE: March 7, 2007.

FOR FURTHER INFORMATION CONTACT: Cheri L. Emery, Standardization Section, Fresh Products Branch, Fruit and Vegetable Programs, Agricultural Marketing Service, U.S. Department of Agriculture, 1400 Independence Ave., SW., Room 1661, South Building, Stop 0240, Washington, DC 20250-0240, (202) 720-2185, fax (202) 720-8871, or e-mail Cheri.Emery@usda.gov.

The United States Standards for Grades of Peppers (Other Than Sweet Peppers) are available either from the above address or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS is establishing voluntary United States Standards for Grades of Peppers (Other Than Sweet Peppers) using the procedures that appear in Part 36, Title 7 of the Code of Federal Regulations (7 CFR part 36).

Background

AMS published a notice in the Federal Register (71 FR 9514), on February 24, 2006, soliciting comments on the possible development of United States Standards for Grades of Peppers (Other Than Sweet Peppers). In response to the request for comments, AMS received two comments, one comment was from an industry group and the other from a shipper. Both comments were in support of developing the standards. The comments are available by accessing AMS, Fresh Products Branch Web site at: http://www.ams.usda.gov/fv/fpbdocketlist.htm.

On July 24, 2006, AMS published a second notice in the Federal Register (71 FR 41755-41756), soliciting comments on the proposed voluntary United States Standards for Grades of Peppers (Other Than Sweet Peppers). The proposed standards contained U.S. Fancy, U.S. No. 1, and U.S. No. 2 grades and tolerances for each grade. In addition, there were “Application of Tolerances” and “Size” sections. AMS also defined “Injury,” “Damage,” and “Serious Damage,” along with specific basic requirements and definitions for defects, definitions for color, diameter, and length. Comments were not received in connection with the second notice.

The adoption of the U.S. grade standards will provide the pepper (other than sweet peppers) industry with U.S. grade standards similar to those extensively in use by the fresh produce industry to assist in orderly marketing of other commodities. Accordingly, AMS is adopting the United States Standards for Grades of Peppers (Other Than Sweet Peppers) as proposed in the July 24, 2006, Federal Register notice.

The official grades of a lot or shipment of fresh vegetables covered by U.S. standards is determined by the procedures set forth in the Regulations Governing Inspection, Certification, and Standards of Fresh Fruits, Vegetables and Other Products (7 CFR 51.1 to 51.61).

The United States Standards for Grades of Peppers (Other Than Sweet Peppers) will become effective 30 days after publication in the Federal Register.

Authority: 7 U.S.C. 1621-1627.

Dated: January 30, 2007.
Lloyd C. Day,
Administrator, Agricultural Marketing Service.

[FR Doc. E7-1762 Filed 2-2-07; 8:45 am]

BILLING CODE 3410-02-P